ENVIRONMENTAL PROTECTION AGENCY

[OPP-2002-0032; FRL-7184-3]

1, 4-Bis(bromoacetoxy)-2-butene; Notice of Receipt of Request to Amend Certain Pesticide Products

AGENCY: Environmental Protection Agency (EPA).

ACTION: Notice.

SUMMARY: Pursuant to section 6(f)(1) of the Federal Insecticide, Fungicide, and Rodenticide Act (FIFRA), as amended, EPA is issuing a notice of receipt of a request from Buckman Laboratories International, Inc., the sole registrant, to amend its registration of products containing 1, 4-bis(bromoacetoxy)-2-butene (Bis-2) to terminate use as a preservative in water-based coatings and paints as well as the use as an anti-coagulant in oil field, oil secondary (enhanced) recovery systems. EPA intends to grant the request to amend the registrations to terminate these uses at the end of the 30-day comment period initiated by this Notice unless the Agency receives substantive comments that would merit further review of this request. Upon acceptance of the request to amend the registrations to terminate uses, any sale, distribution, or use of products listed in this notice will be permitted only if distribution, sale, or use is consistent with the terms as described in this notice.

DATES: Comments must be received on or before July 24, 2002.

ADDRESSES: Comments may be submitted by mail, electronically, or in person. Please follow the detailed instructions for each method as provided in Unit I. of the SUPPLEMENTARY INFORMATION. To ensure proper receipt by EPA, it is imperative that you identify the docket ID number OPP-2002-0032 in the subject line on the first page of your response.

FOR FURTHER INFORMATION CONTACT: By mail: Killian Swift, Antimicrobial Division (7510C), Office of Pesticide Programs, Environmental Protection Agency, 1200 Pennsylvania Avenue, NW., Washington, DC 20460. Office location for commercial courier delivery, telephone number, and e-mail address: Room 308, Crystal Mall #2, 1921 Jefferson Davis Hwy., Arlington, VA 22202; (703) 308-6346; e-mail: swift.killian@epa.gov.

SUPPLEMENTARY INFORMATION: This announcement consists of five parts. The first part contains general information. The second part discusses the registrant's request for registration amendments to terminate uses of the affected products. The third part describes the action taken by this notice. The fourth part describes the Agency's legal authority for the action announced in this notice. The fifth part proposes existing stocks provisions that the Agency intends to authorize.

I. General Information

A. Does this Action Apply to Me?

This action is directed to the public in general. You potentially may be affected by this action if you use water-based coating or paints or work with oil field, oil secondary (enhanced) recovery systems. The Congressional Review Act U.S.C. 801 et seq., as added by the Small Business Regulatory Enforcement Fairness Act of 1996, does not apply because this action is not a rule, for purposes of 5 U.S.C. 804(3). Since other entities also may be interested, the Agency has not attempted to describe all specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain related documents that might be available electronically, from the EPA Internet Home Page at http://www.epa.gov/. To access this document, on the Home Page select “Laws and Regulations,” “Regulations and Proposed Rules” and then look up the entry for this document under the Federal Register—Environmental Documents. You also can go to the Federal Register listings directly at http://www.epa.gov/fedrgstr/.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to opp-docket@epa.gov, or you can submit a computer disk as described above. Do not submit any information electronically that you consider to be CBI. Avoid the use of special characters and any form of encryption. Electronic submissions will accepted in WordPerfect 6.1/9.0 or ASCII file format. All comments in electronic form must be identified by docket ID number OPP-2002-0032. Electronic comments also may be filed online at many Federal Depository Libraries.

C. How and to Whom Do I Submit Comments?

You may submit comments through the mail, in person, or electronically. To ensure proper receipt by EPA, it is imperative that you identify docket ID number OPP-2002-0032 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/9.0 or ASCII file format. All comments in electronic form must be identified by docket ID number OPP-2002-0032. Electronic comments also may be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket ID number assigned to this action in the subject line of your response. You also may provide the name, date, and Federal Register citation.

II. Background on the Receipt of Request to Amend Registrations to Terminate Uses

The sole registrant of 1, 4-bis(bromoacetoxy)-2-butene (Bis-2), has voluntarily requested EPA to amend the registration of the Bis-2 Technical Grade Active Ingredient, “BBAB” (EPA Registration No. 1447-374) and its End Use Product “Busan 1210” (EPA Registration No. 1448-353) to terminate two of their three uses. The letter from Buckman Laboratories International, Inc. was dated March 22, 2002 and was received by EPA on March 27, 2002. The letter included a waiver of the 180-day comment period. The letter requested that the Agency amend the registrations to terminate the use of Bis-2 products as preservatives in water-based coatings and paints as well as the use as anti-coagulants in oil field, oil secondary (enhanced) recovery systems. The registrant did not request an existing stocks provision. Bis-2 products would remain registered for use as an anti-coagulant in pulp and paper mill systems process (cleaning) water.

III. What Action is the Agency Taking?

This notice announces receipt by the Agency, under section 6(f)(1) of FIFRA from the sole registrant of Bis-2 pesticide products of a request to amend its Bis-2 registrations to terminate the use of Bis-2 products as preservatives in water-based coatings and paints as well as anti-coagulants in oil field, oil secondary (enhanced) recovery systems.

Registrations Involved in the Request for Amendments to Terminate Uses
Registration Number | Product Name
1448-353 (End-use product) | Busan 1210 (80% active ingredient)
1448-374 (Technical grade active ingredient) | BBAB (95% active ingredient)

IV. The Agency's Authority for Taking this Action

Section 6(f)(1) of FIFRA provides that a registrant of a pesticide product may at any time request that a pesticide registration of the registrant be canceled or amended to terminate one or more uses. The Act further provides that before acting on the request, EPA must publish a notice of any such request in the Federal Register. Thereafter, following the public comment period, the Administrator may approve such a request.

V. Provisions for Disposition of Existing Stocks

In any order in response to this request for amendment to terminate uses, the Agency proposes to include the following provisions for treatment of any existing stocks of the products identified in the Table above:

All distribution, sale, or use by the registrant of existing stocks of affected manufacturing use and end-use products that bear the terminated uses will be unlawful under FIFRA effective 1 year from the Agency's receipt of the request for amendments to terminate uses. Any stocks of such products not in the hands of the registrant may continue to be sold, distributed, and used until such stocks are exhausted. For purposes of the cancellation order that the Agency intends to issue at the close of the comment period for this announcement, the term “existing stocks” will be defined, pursuant to EPA's existing stocks policy at 56 FR 29362, Wednesday, June 26, 1991, as those stocks of a registered pesticide product which are currently in the United States and which have been packaged, labeled, and released for shipment prior to the effective date of the cancellation or amendment. Any distribution, sale, or use of existing stocks after the effective date of the cancellation order that is not consistent with the terms of that order will be considered a violation of section 12(a)(2)(K) and/or 12(a)(1)(A) of FIFRA, unless it is for purposes of shipping such stocks for relabeling, repackaging, export consistent with the requirements of section 17 of FIFRA, or disposal.

List of Subjects

Environmental protection, Pesticides and pests.

Dated: June 17, 2002.
Frank Sanders,
Director, Antimicrobial Division, Office of Pesticide Programs.

[FR Doc. 02-15879 Filed 6-21-02; 8:45 am]

BILLING CODE 6560-50-S